NATIONAL AERONAUTICS AND SPACE ADMINISTRATION

[Notice 03-111]

Notice of Prospective Patent License

AGENCY: National Aeronautics and Space Administration.

ACTION: Notice of prospective patent license.

SUMMARY: NASA hereby gives notice that NanoConduction Inc., of Los Gatos, CA has applied for an exclusive license to practice the invention contained in the pending patent application corresponding to NASA Case No. ARC-15042-1, entitled “Carbon Nanotube Interconnect Technology for Microprocessors and DRAM Capacitors,” which is assigned to the United States of America as represented by the Administrator of the National Aeronautics and Space Administration. Written objections to the prospective grant of a license should be sent to Ames Research Center.

DATES: Responses to this notice must be received by October 17, 2003.

FOR FURTHER INFORMATION CONTACT: Robert Padilla, Chief Patent Counsel, NASA Ames Research Center, M/S 202A-4, Moffett Field, CA 94035-1000, 650-604-5104.

Dated: September 9, 2003.
Robert M. Stephens,
Deputy General Counsel.

[FR Doc. 03-23629 Filed 9-16-03; 8:45 am]

BILLING CODE 7510-01-P